DEPARTMENT OF THE INTERIOR

National Park Service

[NPS-WASO-NAGPRA-NPS0035564; PPWOCRADN0-PCU00RP14.R50000]

Notice of Inventory Completion: New Jersey State Museum, Trenton, NJ

AGENCY: National Park Service, Interior.

ACTION: Notice.

SUMMARY: In accordance with the Native American Graves Protection and Repatriation Act (NAGPRA), the New Jersey State Museum has completed an inventory of human remains and has determined that there is a cultural affiliation between the human remains and Indian Tribes or Native Hawaiian organizations in this notice. The human remains were removed from Monmouth County, NJ.

DATES: Repatriation of the human remains in this notice may occur on or after April 28, 2023.

ADDRESSES: Dr. Gregory D. Lattanzi, New Jersey State Museum, 205 West State Street, Trenton, NJ 08625, telephone (609) 984-9327, email gregory.lattanzi@sos.nj.gov.

SUPPLEMENTARY INFORMATION: This notice is published as part of the National Park Service's administrative responsibilities under NAGPRA. The determinations in this notice are the sole responsibility of the New Jersey State Museum. The National Park Service is not responsible for the determinations in this notice. Additional information on the determinations in this notice, including the results of consultation, can be found in the inventory or related records held by the New Jersey State Museum.

Description

Human remains representing, at minimum, one individual were removed from Monmouth County, NJ. In May of 2020, the Executive Director of the New Jersey State Museum received a package mailed from Tennessee. Inside the package were a letter and a partial cranium. At the time, the State Museum was shut down because of Covid-19, and the package remained secure in the director's office. Close to two years later, when the State Museum reopened, the Executive Director presented Dr. Gregory Lattanzi with both the ancestral remains and the accompanying letter. These ancestral remains had been discovered and identified in a residential homeowner's backyard in 1964, during construction in the Town of Keansburg, in Monmouth County, NJ. After the homeowner contacted the Geology Department at Rutgers University (the Anthropology Department had not yet been established), Dr. Bennett Smith and students from Rutgers excavated the ancestral remains. One of the students kept the partial cranium until May of 2020, when he mailed it to the New Jersey State Museum.

Further communication with the individual who had mailed the letter and the ancestral remains revealed that, initially, a complete skeleton had been uncovered along with associated funerary objects and that this collection had been brought back to Rutgers University but that, once back at the University, almost all the ancestral remains were discarded except for the partial cranium now located in the New Jersey State Museum. No known individual was identified. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: archeological and historical.

Determinations

Pursuant to NAGPRA and its implementing regulations, and after consultation with the appropriate Indian Tribes and Native Hawaiian organizations, the New Jersey State Museum has determined that:

• The human remains described in this notice represent the physical remains of one individual of Native American ancestry.

• There is a relationship of shared group identity that can be reasonably traced between the human remains described in this notice and the Delaware Nation, Oklahoma; Delaware Tribe of Indians; and the Stockbridge Munsee Community, Wisconsin.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after April 28, 2023. If competing requests for repatriation are received, the New Jersey State Museum must determine the most appropriate requestor prior to repatriation. Requests for joint repatriation of the human remains are considered a single request and not competing requests. The New Jersey State Museum is responsible for sending a copy of this notice to the Indian Tribes identified in this notice.

Authority: Native American Graves Protection and Repatriation Act, 25 U.S.C. 3003, and the implementing regulations, 43 CFR 10.9, 10.10, and 10.14.

Dated: March 22, 2023.
Melanie O'Brien,
Manager, National NAGPRA Program.

[FR Doc. 2023-06477 Filed 3-28-23; 8:45 am]

BILLING CODE 4312-52-P